DEPARTMENT OF ENERGY

Federal Energy Regulatory Commission

[Docket No. PR08-12-002]

ONEOK WesTex Transmission, LLC; Notice of Motion for Extension of Rate Case Filing Deadline

November 10, 2010.

Take notice that on November 2, 2010, ONEOK WesTex Transmission, LLC (OWT) filed a request to extend the date for filing its next rate case to January 3, 2013. OWT states that in Order No. 735 the Commission modified its policy concerning periodic reviews of rates charges by section 311 and Hinshaw pipelines to extend the cycle for such reviews from three to five years.¹ Therefore, OWT requests that the date for OWT's next rate filing be extended to January 3, 2013, which is five years from the date of OWT's most recent rate filing with this Commission.

¹ Contract Reporting Requirements of Intrastate Natural Gas Companies, Order No. 735, 131 FERC ¶ 61,150 (May 20, 2010).

Any person desiring to participate in this rate proceeding must file a motion to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the date as indicated below. Anyone filing an intervention or protest must serve a copy of that document on the Applicant. Anyone filing an intervention or protest on or before the intervention or protest date need not serve motions to intervene or protests on persons other than the Applicant.

The Commission encourages electronic submission of protests and interventions in lieu of paper using the “eFiling” link at http://www.ferc.gov. Persons unable to file electronically should submit an original and 7 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on Monday, November 15, 2010.

Kimberly D. Bose,
Secretary.

[FR Doc. 2010-29065 Filed 11-17-10; 8:45 am]

BILLING CODE 6717-01-P